DEPARTMENT OF COMMERCE

National Oceanic and Atmospheric Administration

50 CFR Part 665

[Docket No. 060327086-6130-02; I.D. 032306A]

RIN 0648-AU21

NOAA Information Collection Requirements Under the Paperwork Reduction Act; OMB Control Numbers; Fisheries off West Coast States; Fisheries in the Western Pacific; Correction

AGENCY: National Marine Fisheries Service (NMFS), National Oceanic and Atmospheric Administration (NOAA), Commerce.

ACTION: Final rule; correcting amendment.

SUMMARY: This rule amends the regulations for fisheries in the western Pacific to correct errors that resulted from a recent regulatory reorganization. This action is necessary to remedy incorrect cross-references and administrative titles, and will result in accurately worded regulations.

DATES: Effective May 26, 2006.

FOR FURTHER INFORMATION CONTACT: Robert Harman, Pacific Islands Region, NMFS, 808 944-2271.

SUPPLEMENTARY INFORMATION: NMFS published in the Federal Register a final rule that reorganized fishery regulations by creating a new part 665 for the regulations covering fisheries in the western Pacific (71 FR 17985, April 10, 2006). Regulations for western Pacific fisheries were formerly found in part 660, with west coast regulations. The instructions for implementing that reorganization rule contained several errors. Most important was that the internal cross-references to other sections of the new part 665 still incorrectly referred to sections in old part 660 that no longer existed after the reorganization. Other errors included administrative titles that were not changed during the previous reorganization rule. This final rule corrects those errors. No substantive changes are being made to the regulations.

Classification

Pursuant to 5 U.S.C. 553(b)(B), the Assistant Administrator for Fisheries, NOAA, (AA) finds good cause to waive prior notice and opportunity for public comment, as such notice and comment would be unnecessary. These procedures are unnecessary because the regulations were subject to notice and comment when originally implemented, and no substantive changes are being made pursuant to this final rule. The only actions currently being taken are to correct errors in cross references created during the reorganization of the western Pacific regulations into a new part, and to correct several administrative titles. Pursuant to 5 U.S.C. 553(d), the 30-day delay in effectiveness does not apply to this rule because it is not a substantive rule.

This rule is exempt from review under Executive Order 12866.

Dated: May 22, 2006.
James W. Balsiger,
Acting Assistant Administrator for Regulatory Programs, National Marine Fisheries Service.

For the reasons set out in the preamble, 50 CFR part 665 is correctly amended as follows:

PART 665—[CORRECTED]

1. The authority citation for part 665 continues to read as follows:

Authority: 16 U.S.C. 1801 et seq.

2. In part 665, remove all references to “660” every place it appears and replace it with “665”.

§ 665.41 [Corrected]

3. In § 665.41, paragraph (c), remove “Pacific Area Office” and replace it with“Pacific Islands Regional Office”.

4. In § 665.41, paragraphs (g)(4)(i), and (g)(4)(ii), remove “Regional Director” and replace it with “Regional Administrator”.

[FR Doc. E6-8173 Filed 5-25-06; 8:45 am]

BILLING CODE 3510-22-S